FEDERAL MARITIME COMMISSION

[Docket No. 11-14]

Petra Pet, Inc. (a/k/a Petrapport) v. Panda Logistics Limited; Panda Logistics Co., Ltd. (f/k/a panda Int'l Transportation Co., Ltd.); and RDM Solutions, Inc.; Notice of Filing of Complaint and Assignment

Notice is given that a complaint has been filed with the Federal Maritime Commission (Commission) by Petra Pet, Inc. (a/k/a Petrapport), hereinafter “Complainant,” against Respondents Panda Logistics Limited, Panda Logistics Co., Ltd. (f/k/a Panda Int'l Transportation Co., Ltd), and RDM Solutions Inc. (RDM). Complainant asserts that it is a shipper. Complainant alleges that Respondents Panda Logistics Limited and Panda Logistics Co., Ltd., are each a non-vessel-operating ocean common carrier (NVOCC) and a non-U.S. based ocean transportation intermediary (OTI); and that Respondent RDM is an NVOCC and OTI, and serves as U.S. agent for Panda Logistics Limited and Panda Logistics Co., Ltd.

Complainant alleges that by failing to pay freight charges, refusing to provide freight releases, improperly diverting containers, and taking actions to cause the accrual of storage and demurrage charges, “the actions of Respondents constitute systemic and egregious failure to establish, observe and enforce just and reasonable regulations and practices relating to or connected with receiving, handling, storing and delivering Complainant's property” in violation of § 10(d)(1) of the Shipping Act, 46 U.S.C. 41102(c). Complainant requests that the Commission order Respondents to “[p]ay Complainant by way of reparations for the unlawful conduct hereinabove described a sum of no less than $269,940.68, plus interest”,” [p]ay any other damages that may be determined proper and just”, “take any such other action, or provide any other such relief, as the Commission determines to be warranted, including sanctions, as appropriate, with respect to Respondents ability to conduct business as NVOCC's in the United States”, and “[p]ay Complainant's reasonable attorneys fees and costs incurred * * *” The full text of the complaint can be found in the Commission's Electronic Reading Room at http://www.fmc.gov.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by August 27, 2012 and the final decision of the Commission shall be issued by December 26, 2012.

Karen V. Gregory,
Secretary.

[FR Doc. 2011-22336 Filed 8-31-11; 8:45 am]

BILLING CODE 6730-01-P